INTERNATIONAL TRADE COMMISSION

[Investigation No. 337-TA-1214]

Certain Height-Adjustable Desk Platforms and Components Thereof; Commission Determination Not To Review an Initial Determination Terminating the Investigation; Termination of the Investigation

AGENCY: U.S. International Trade Commission.

ACTION: Notice.

SUMMARY: Notice is hereby given that the U.S. International Trade Commission (“Commission”) has determined not to review an initial determination (Order No. 7) terminating the investigation based on withdrawal of the complaint. The investigation is terminated.

FOR FURTHER INFORMATION CONTACT: Amanda Fisherow, Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: On August 24, 2020, the Commission instituted this investigation based on a complaint filed by Versa Products Inc. of Los Angeles, California (“complainant”). 84 FR 52150 (Aug. 24, 2020). The complaint, as supplemented, alleges violations of section 337 of the Tariff Act of 1930, as amended, 19 U.S.C. 1337, due to the importation into the United States, sale for importation, or sale in the United States after importation of certain height-adjustable desk platforms and components thereof by reason of infringement of U.S. Patent No. 10,485,336. The complaint also alleges the existence of a domestic industry.

The notice of investigation names seven (7) respondents, including Varidesk LLC of Coppell, Texas, CKNAPP Sales, Inc. of Goodfield, Illinois, Loctek, Inc. of Livermore, California, Locktek Ergonomic Technology Corporation and Zhejiang Loctek Smart Drive Technology Co., Ltd. both of Zhejiang, China, Amazon Import Inc. (“Amazon”) of El Monte, California, and Stand Steady Company, LLC of Birmingham, Alabama. Id. The Office of Unfair Import Investigations (“OUII”) is also a party in this investigation. Id.

On October 22, 2020, Complainant filed a motion to terminate the investigation in its entirety based on withdrawal of the complaint. OUII and the respondents, with the exception of Amazon, filed responses indicating that they do not oppose the motion.

On November 3, 2020, the ALJ issued Order No. 7 granting the motion. The ID found that the complainant represented that “there are no agreements, written or oral, express or implied, between the parties concerning the subject matter of this Investigation.” The ID also found that there are no extraordinary circumstances that warrant denying the motion. No party petitioned for review of the ID.

The Commission has determined not to review Order No. 7. The investigation is terminated.

The Commission vote for this determination took place on November 18, 2020.

The authority for the Commission's determination is contained in Section 337 of the Tariff Act of 1930, as amended (19 U.S.C. 1337), and in Part 210 of the Commission's Rules of Practice and Procedure (19 CFR part 210).

By order of the Commission.
Issued: November 18, 2020.
Lisa Barton,
Secretary to the Commission.

[FR Doc. 2020-25907 Filed 11-23-20; 8:45 am]

BILLING CODE 7020-02-P